DEPARTMENT OF LABOR

Employment and Training Administration

Notice of Request for Information (RFI) on Sector Strategies To Meet Critical Workforce Needs Across Industries

AGENCY: Employment and Training Administration (ETA); Department of Labor.

ACTION: Request for information.

SUMMARY: The U.S. Department of Labor's (DOL's) Employment and Training Administration (ETA) requests information on current and planned local and regional sector strategies and partnership models. This request for information (RFI) seeks input from all stakeholders involved directly and indirectly in economic and workforce development, particularly as it relates to the development of sector strategy models that address the workforce needs of specific industry sectors within a local or regional labor market through a strategic sector partnership. This stakeholder input will inform the Department's efforts in developing sustainable and scalable sector strategies through economic development and workforce collaboration to meet local and regional sector needs for skilled workers in quality jobs while meeting broader Administration objectives, such as equity and the inclusion of historically marginalized populations within those sectors, and responsiveness to the needs of businesses and the economy in critical industries during and beyond the pandemic.

DATES: Responses may be submitted on a rolling basis but are due no later than 5 p.m. (ET) on March 24, 2023.

ADDRESSES: Submit all responses to this RFI by email to Hannah Jenuwine at jenuwine.hannah.r@dol.gov. Responses must be received by 5:00 p.m. (E.T.) on March 24, 2023, for consideration. Only electronic responses will be accepted.

Please identify your answers by responding to a specific question or topic, if applicable. Please clearly state the specific question to which you are responding. All assumptions, including any assumed government support, shall be clearly identified. All proprietary and restricted information shall be clearly marked. Respondents may answer as many or as few questions as they wish. DOL will not respond to individual submissions. A response to this RFI will not be viewed as a binding commitment to develop or pursue the project or ideas discussed.

Submitting comments via email. Please include in the subject line “RFI: Sector Strategies to Meet Critical Workforce Needs Across Industries.” Responses must be provided as attachments to an email. It is recommended that attachments with file sizes exceeding 25MB be compressed (i.e., zipped) to ensure message delivery; however, no email shall exceed a total of 45MB, including all attachments. Responses must be provided as a Microsoft Word (.docx) or Portable Document Format (.pdf) attachment to the email and may be no more than 25 pages in length, in 12-point font, with 1-inch margins. Please provide the following information in a cover letter:

• Community, organization, or company (if applicable);

• Contact name; and

• Contact's address, phone number, and email address.

FOR FURTHER INFORMATION CONTACT: Jenn Smith, Division Chief, Division of Strategic Investments, by telephone at 202-693-3597 (this is not a toll-free number) or by email at smith.jenn@dol.gov.

SUPPLEMENTARY INFORMATION: The Workforce Innovation and Opportunity Act of 2014 (WIOA) emphasizes the important role of sector strategies in a dynamic regional workforce development plan. Within WIOA, regional coordination and planning requirements include the necessity of a regional plan that supports the “development and implementation of sector initiatives for in-demand industry sectors or occupations in the regions.” Sector strategies are useful models of local and regional workforce development that are well-positioned to align the collective needs of employers in an in-demand industry with the skilled workforce needed, while ensuring a successful career pathway from training to employment and career progression. There is evidence of the effectiveness of a sector approach but the transition from paper to practice can be challenging. Real-world collaboration can be hard to sustain without dedicated support and focused commitment. Scaling of effective strategies can also be challenging as the context, partnerships, and workforce challenges within specific sectors may involve factors and considerations that vary from those in a local or regional economic development area.

ETA developed a sector strategy framework in 2016, which has been used to inform many of our more recent investments. This framework defines a sector strategy as a partnership of multiple employers within a critical industry that brings together education, economic development, workforce systems, and community organizations to identify and collaboratively meet the workforce needs of that industry within a regional labor market. Sector strategies are a key element of a Career Pathways System, which develops education and training in collaboration with employers to ensure the end product supports the skills and competencies needed by industry. As a systems change approach, there are recognized components of an effective sector strategy. ETA's Sector Strategy Implementation Framework,¹ drawing from emerging research and practices, advanced “five key capabilities” of successful sector-focused organizations that state and regional workforce partnerships should master in implementing a sector approach. They include:

¹ See https://businessengagement.workforcegps.org/resources/2016/04/12/13/53/Sector-Strategies-Implementation-Framework.

• Data-Informed Decision Making—the organization/partnership uses rigorous data to make decisions about target industries and education and training investments.

• Industry Engagement—there is meaningful and continuous involvement of targeted industry sector employers in designing and delivering programs and services.

• Sector-Based Service Delivery—all partners are effectively facilitating the delivery of workforce solutions to be responsive to the needs of workers and the targeted industry sector(s).

• Sustainability and Continuous Improvement—the organization/partnership is able to measure sector strategy outcomes and has an effective and realistic plan to financially sustain sector work over time.

• Organizational Capacity and Alignment—the organization/partnership has the personnel, policies, vision, and resources in place to continually support sector strategy outcomes.

The Department has funded several recent sector strategy initiatives through H-1B-funded grant programs, and evaluations from these projects will support key learnings to support future investments, such as the SECTOR initiative proposed in WIOA reauthorization and the FY 23 President's Budget. The SECTOR proposal encompasses the key capabilities of sector strategies described above but also targets equity by centering services on the most underserved populations and communities while focusing on high-skill, high-wage, and/or in-demand industry sectors or occupations that lead to an economy of good jobs. Additionally, this RFI will provide crucial information on how local and regional areas are considering sector strategies as a response to key workforce needs, particularly in the most critical industries of priority and opportunity—such as those being built out through recent federal investments, including the Bipartisan Infrastructure Law (BIL), Inflation Reduction Act (IRA), and the CHIPS and Science Act of 2022 (CHIPS).

This RFI seeks to grow ETA and partner agencies' understanding of effective sector strategies through the experiences of key stakeholders in local and regional economies to further inform policymakers and workforce practitioners at the federal, state, and local levels. Such information will refine policy responses, technical assistance for adoption and scaling of sector strategies as a response to economic and workforce development needs, and inform the design of future grants. Specifically, understanding what the challenges are to implementing sector strategies, what has resulted in successful sector approaches, who the key partners need to be and what their roles should be, the current level of regional coordination and planning that has been undertaken to support sector partnerships, how the partnerships are funded, and how the success of such partnerships can be measured will benefit the federal government's efforts to effectively engage with local and regional workforce areas to create an impactful response to the current and future training needs in critical industries, such as advanced manufacturing (including semiconductor manufacturing), information technology and cybersecurity, transportation infrastructure modernization, healthcare, and clean energy and energy resilience.

Further, in alignment with the Administration's priority on supporting increased job quality, including through the active inclusion of worker voice, this RFI seeks also to learn about sector strategies that specifically focus on and incorporate equity and worker voice into the training design, supportive service delivery, workforce decision making processes, and ongoing professional development and career growth opportunities. One equity and worker-centered sector strategy example showing promise is the “High Road Training Partnership” (HRTP) sector strategy model from California. Such models align with the Biden-Harris Administration priority on good quality jobs, which can be considered those that provide livable wages of at least $15 an hour, employment benefits, work environments free of discrimination, and opportunities for advancement, as well as supporting worker voice and engagement. For example, the worker-centered sector strategies of HRTP do this by being equity-centered, worker-focused and industry-led, allowing for innovative workforce solutions that create and support job quality using four essential elements: (1) industry-led problem solving; (2) partnership as a priority; (3) worker voice; and (4) strategic training solutions.² Other impactful sector strategy models developed by and with industry and workforce development intermediaries that also focus on job quality through family-sustaining wages and equitable inclusion of a diverse workforce include San Antonio's Project QUEST,³ and the Wisconsin Regional Training Partnership's Building Industry Group Skilled Trades Employment Program (BIG STEP).⁴ An additional example of industry-supported and validated sector-based training that is a key component of a sector strategy is the Per Scholas model for IT training.⁵ However, these are just a few of the promising models and training strategies developed and implemented across the nation.

² See https://cwdb.ca.gov/wp-content/uploads/sites/43/2020/01/HRTP-Essential-Elements_ACCESSIBLE.pdf.

³ See https://questsa.org/wp-content/uploads/2021/08/QUEST25YearEconomicImpactStudy.pdf.

⁴ See https://wrtp.org/wp-content/uploads/2022/05/WRTP-Impact-Report-2021.pdf.

⁵ See https://perscholas.org/wp-content/uploads/2021/11/Annual-Update-2021-Final.pdf.

ETA is interested in learning more about equity and worker-centered sector strategies such as HRTP, and additional models, to gather feedback on questions such as: Does this approach work across all industry sectors? What workforce strategies have emerged from these efforts—career pathway development, apprenticeships—that have been supported by employer partners? How are these strategies funded and sustained? Do the strategies impact different groups of workers differently? Are any strategies particularly suited to developing the skills and opportunities for historically marginalized communities?

Who Should Respond

ETA invites workforce and economic development practitioners, education and training institutions, state and local policy makers, industry and professional associations, labor organizations, and funders and researchers to provide information, including:

• Employers/Businesses and/or Associations of Employers: including, but not limited to, local and regional employers and businesses; trade/industry associations; and others.

• Education: including, but not limited to, K-12 systems; institutions of higher education; tribal colleges; and others.

• Workforce Development: including, but not limited to, state, regional, tribal and local workforce agencies; state and local workforce development boards; training providers; community and faith-based organizations; workforce intermediaries; sector-based training partnerships; American Job Centers; Registered Apprenticeship Programs; and others.

• Economic Development: including, but not limited to, state and local agencies; regional skills partnerships; planning and development organizations; area development districts; councils of government; economic development associations; and economic development corporations.

• Worker/Employee Representation: Unions, labor-management partnerships, worker centers, and organizations that represent or serve workers, including workers from communities that have historically been marginalized or underserved, such as Black, Latino, and Indigenous and Native American persons; Asian Americans and Pacific Islanders and other persons of color; members of religious minorities; lesbian, gay, bisexual, transgender, and queer (LGBTQ+) persons; persons with disabilities; persons who live in rural areas; opportunity youth; individuals previously incarcerated; immigrant workers; women; farmworkers; and veterans.

• Other: including, but not limited to, philanthropic funders, advocacy organizations, think tanks, professional/industry associations, and others.

These organizations may submit individual responses or may choose to convene their active sector partnership for a coordinated response. Additionally, DOL has identified next to each Topic Area which responders may be most interested in that Topic Area, but these are suggestions and are not meant to limit any interested party from responding.

Questions for Input

This RFI is an initial step in improving DOL's understanding of goals, interests, concerns, challenges, best practices and promising practices, and policy, program, and resource needs of local and regional economic development areas, with respect to sector strategies. This RFI is a general solicitation for public input, which sets forth topics for discussion and comment. Specific questions to which responses are requested for each topic area are listed below. Respondents may provide input regarding any one, several, or all of the topic areas and may address any one several, or all of the questions. These questions may also be considered prompts for additional input and DOL welcomes any additional relevant information that respondents wish to share, even if not the specific topic of a question.

Topic Area 1: Definitions (Many Stakeholders May Be Interested in Responding)

1a. How do you define a sector?

1b. How do you define a sector strategy?

1c. Would sector partnerships benefit from the development of a consensus for other common definitions or key program components? What other consensus-driven common definitions have been developed by sector partnerships?

Topic Area 2: Partnership Roles and Requirements (Employers, Education, Workforce Development, Worker/Employee Representation, and Economic Development Stakeholders May Be Interested in Responding)

2a. Who are the local and regional partners necessary to support an effective regional sector partnership?

2b. Which entities are best positioned to lead the sector partnership? Does this vary by geographic or industry scope of the partnership? If so, why?

2c. What degree of industry representation is needed to ensure that the sector partnership is developing a strategy that is broadly responsive to industry need within a given region or locality?

2d. What degree of worker/employee representation is needed to ensure that the sector partnership is developing a strategy that centers and advances equity and worker voice?

2e. What strategies have you employed to recruit key partners to be part of sector partnerships?

2f. What key ingredients must be present for a sector partnership to successfully launch?

2g. What key ingredients must be present for a sector partnership to be effectively sustained?

2h. Are there strategies or incentives that are most beneficial in ensuring partners are effectively engaged at various stages of the partnership?

2i. What does a fully engaged partner look like?

2j. To what extent do successful sector strategies align their efforts with partners who have broader reach and purview (e.g., State-level entities, national employers, etc.)? If so, how do sector partnerships cultivate such relationships?

2k. What specific role should the public workforce system play in developing, expanding, and sustaining sector partnerships?

Topic Area 3: Promising Practices for Employer Engagement and Workforce Development (Employers, Workforce Development, Worker/Employee Representation, and Other Stakeholders May Be Interested in Responding)

3a. Are there factors that contribute to sector-based strategies being more effective in some specific sectors than others?

3b. How are sector strategies targeting industries/occupations? What resources/tools are sector partnerships using to target specific occupations?

3c. How are sector partnerships implementing evidence-based models for training, such as Registered Apprenticeship Programs (RAPs)? Are partnerships leveraging existing RAPs and/or developing new RAP pathways?

3d. Are there promising sector strategy models that promote job quality and/or demonstrate improvement in the quality of jobs within an industry or sector (e.g., flexible hours, family-sustaining wages, good benefits, active inclusion of worker voice)?

3e. How are sector strategies recruiting workers for training opportunities developed through sector partnerships? Are there examples of effective recruitment of workers who are under-represented in the industry or occupation, including workers from communities that have been historically marginalized or underserved?

3f. How have sector strategies built in pathways for new entrants to the workforce, particularly youth? Are specific career and technical education strategies being used to support the transition from secondary to post-secondary education and training models? If so, are there specific challenges to this approach? Are there unique partners that must be included?

3g. How have sector strategies supported employee retention and career advancement? Are there particular approaches that have demonstrated improvement in these areas?

3h. What other kinds of non-training services are sector strategies delivering? How do those services support the overarching goals of the sector strategy? Have sector strategies improved supportive service delivery to workers?

3i. How have your sector strategy efforts been informed by the evidence base on sector strategies?

3j. What evidence or research do you have that these sector strategies lead to employment in high-quality jobs (i.e., those with career progression and family-sustaining wages, worker representation and voice, a safe work environment, and benefits)?

3k. What evidence, research, or models have shown that sector strategies result in higher wages and/or wage growth for low-wage occupations within their respective industry?

3l. Are there additional questions that you think need to be addressed by future research on sector strategies?

3m. What promising approaches are sector strategies using to prepare workers for employment in the targeted sector or occupation? Might these approaches differ based on the industry? Are there specific success factors that are most important?

3n. Are there working definitions and specific promising practices that differentiate between types of sector strategies?

3o. How have sector partnerships affected the ways in which employer partners manage their recruitment and hiring practices, such as through the assessments they use or approaches to skill-based hiring?

Topic Area 4: Promising Practices for Worker-Centered Sector Strategies (Employers, Education, Workforce Development, Economic Development, and Worker/Employee Representation Stakeholders May Be Interested in Responding)

4a. What sector strategies are effective in promoting worker voice and worker-centered workforce development (e.g., training design, supportive service delivery, workforce decision making processes, and ongoing professional development and career growth opportunities)?

4b. Are there specific practices or requirements for worker-centered sector strategies to be effective, e.g., High Road Training Partnerships' use of employer standards?

4c. What are the biggest challenges to engaging workers to support workforce development through a worker-centered model? What are effective ways of addressing these challenges?

4d. Are there key strategies to use when developing a worker-centered sector strategy in the absence of a worker or labor-management organization partner in the geographic region or industry focus?

4e. Are there specific industries or sectors where a worker-centered sector strategy has been more effective? If so, why?

Topic Area 5: Resources (Employers, Education, Workforce Development, Economic Development, and Other Stakeholders May Be Interested in Responding)

5a. What financial resources are already broadly available within the targeted region to support the sector strategy—e.g., Pell grants for education/training, WIOA state or local funds or other WIOA resources, Registered Apprenticeship Program funding/incentives, state-appropriated funding, or others?

5b. With the available financial resources, are there limitations or challenges in terms of uses of such funds?

5c. Are there key areas of work where funding support is most beneficial? Are these areas currently supported by existing funding streams?

5d. What non-financial resources are necessary for an effective sector strategy and are they available in your region?

5e. Do sector strategies require different levels of funding at different points in the process? For example, during the initial phase of start-up, is less funding necessary than at later points, or not necessarily? What costs are most significant at various stages of maturity? Is there a consistent level of administrative funding necessary to support the sustained sector strategy model?

Topic Area 6: Federal Support for Sector Strategies

6a. Which “critical” industry sectors demonstrate the greatest need for skilled workers in the next decade and could benefit from additional Federal resources, and why?

6b. What types of funding and other supports—such as data or technical assistance—would be helpful and in what form? Specifically, are there roles the Department of Labor and other federal agencies could play in supporting local or regional sector activity beyond direct investment, including:

• Bringing national industry and labor partners together to engage in key sectors?

• Leveraging federal data insights to assess targeted sector needs?

• Providing technical assistance and capacity building to the field, including learning and exchange across sector-based efforts?

• Specific flexibilities or resources to support regional sector-based efforts at various stages?

6c. Have there been efforts already to align with, or leverage, the recent Federal investments mentioned previously (e.g., BIL, IRA, CHIPS)?

Topic Area 7: Advancing Equity (Many Stakeholders May Be Interested in Responding)

7a. What are the most promising approaches to engage employers to increase hiring and retention and improve employment outcomes for historically marginalized and underrepresented populations, such as women, people of color, individuals with disabilities, and other historically underrepresented populations?

7b. What are effective sector-based strategies in addressing issues of equity, including increasing representation of historically marginalized populations within the identified sector(s) through improved hiring, retention, and advancement in high-quality jobs?

7c. Should the targeted industry sector affect the strategies used to increase equity?

7d. What are challenges to consider in addressing equity through a sector strategy partnership?

7e. How have the inputs from historically marginalized and underrepresented populations been taken into consideration when designing a program to serve them? What are effective approaches for soliciting input from marginalized and underrepresented populations?

Topic Area 8: Measuring Success (Employers, Education, Workforce Development, Economic Development, and Other Stakeholders May Be Interested in Responding)

8a. How would you define success within a sector strategy model?

8b. Are there specific measurements or milestones that would work best to measure effective partnership development and maturity (i.e., systems change or capacity-building measures/milestones)? Are there quantitative measures as well as qualitative ones?

8c. Would sector strategies benefit from the development of consensus for outcomes to measure impact and effectiveness of sector strategies or do unique sector strategy models and partnerships require unique performance measures and milestones?

8d. Are there specific performance measures that would work best to meaningfully assess the impact of a sector strategy on the participants served by it? Are there qualitative measures as well as quantitative ones?

8e. How long does it take to start achieving measurable outcomes? Are there near-term (within 12 months) and long-term (beyond 12 months) outputs and outcomes that can be identified to demonstrate change effectively?

8f. Are you involved in any new program evaluations of a potentially promising sector strategy model? Where can we learn more about this new evidence being produced?

Topic Area 9: Local Needs Assessments and Capacity (Education, Workforce Development, Economic Development, and Worker/Employee Representation Stakeholders May Be Interested in Responding)

9a. If your regional area has not yet engaged in a sector strategy, why not? Is there a regional plan for workforce development?

9b. Has your regional economic area undertaken a local needs assessment to determine gaps between the supply of skilled workers and hiring practices within identified in-demand industry sectors or occupations? If so, what has this assessment revealed?

Topic Area 10: Evidence Use (Education, Workforce Development, Economic Development, Worker/Employee Representation, and Other Stakeholders May Be Interested in Responding)

10a. What evidence have you used to inform your thinking when designing a new sector strategy partnership or program, or improving your existing program?

10b. Where do you find your evidence?

10c. What is the hardest thing about using evidence in decision-making about your program(s)?

Topic Area 11: Sustainability and Scalability (Many Stakeholders May Be Interested in Responding)

11a. What are the biggest challenges to developing and sustaining effective sector strategies? What are key factors influencing the sustainability of a sector strategy and its partnerships (e.g., funding, partner engagement, changing labor market demands)? If ongoing funding is needed to sustain a sector strategy, for which specific activities is it needed?

11b.What are key factors for successfully scaling sector strategy models at the local, regional, and national levels? For instance, does it matter more what the sectors are, who the employers are, the geographic and cultural context, or some combination of these?

11c. What are the key obstacles to successfully scaling sector strategy models at the local, regional, and national levels? As with the previous question, does it matter more what the sectors are, who the employers are, the geographic and cultural context, or some combination?

Topic Area 12: Necessary and Beneficial Technical Assistance Support (Many Stakeholders May Be Interesting in Responding)

12a. What targeted technical assistance would be of most benefit in supporting a sector strategy? What targeted technical assistance would be of most benefit in supporting sector partnerships? What organization(s) or type of organization(s) is best positioned to provide this technical assistance?

12b. What DOL guidance could be helpful and what type of webinar topics or virtual/in-person training would be beneficial for DOL to provide?

Disclaimer and Important Note

This RFI is not a Funding Opportunity Announcement (FOA), prize, or any other type of solicitation; therefore, DOL is not accepting applications at this time. DOL may issue a FOA or other solicitation in the future based on or related to the content and responses to this RFI; however, DOL may also elect not to issue a FOA or solicitation. There is no guarantee that a FOA or solicitation will be issued as a result of this RFI. Responding to this RFI does not provide any advantage or disadvantage to potential applicants if DOL chooses to issue a FOA regarding the subject matter. This RFI does not constitute a formal solicitation for proposals or abstracts. Your response to this notice will be treated as information only. DOL will review and consider all responses in its formulation of program strategies for the identified materials of interest that are the subject of this request. DOL will not provide reimbursement for costs incurred in responding to this RFI.

Respondents are advised that DOL is under no obligation to acknowledge receipt of the information received or provide feedback to respondents with respect to any information submitted under this RFI. Responses to this RFI do not bind DOL to any further actions related to this topic.

Confidential Business Information: Pursuant to 10 CFR 1004.11, any person submitting information that he or she believes to be confidential and exempt by law from public disclosure should submit via email two well-marked copies: One copy of the document marked “confidential” including all the information believed to be confidential, and one copy of the document marked “non-confidential” with the information believed to be confidential deleted. Submit these documents via email. DOL will make its own determination about the confidential status of the information and treat it according to its determination. It is DOL's policy that all comments may be included in the public docket, without change and as received, including any personal information provided in the comments (except information deemed to be exempt from public disclosure).

Brent Parton,
Acting Assistant Secretary for Employment and Training, Labor.

[FR Doc. 2023-01142 Filed 1-20-23; 8:45 am]

BILLING CODE 4510-FN-P